COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by nonprofit agencies employing persons who are blind or have other severe disabilities.

Comments Must Be Received On or Before: 5/20/2013.

ADDRESSES: Committee for Purchase From People Who Are Blind or Severely Disabled, 1401 S. Clark Street, Suite 10800, Arlington, Virginia 22202-4149.

For Further Information or to Submit Comments Contact: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to Procurement List for production by the nonprofit agencies listed:

Products

NSN: 7520-00-NSH-0188—Hole Punch, Paper, High-capacity, 3-Hole, Adjustable, 28 sheet capacity, Black Base, Black Grip.

NSN: 7520-00-NSH-0195—Hole Punch, Paper, Light Duty, 3-Hole, Adjustable, 10 sheet capacity, Metallic Base, Black Handle.

Coverage: B-List for the Broad Government requirement as aggregated by the General Services Administration, New York, NY.

NSN: 7520-00-NSH-0189—Hole Punch, Paper, Light Duty, 3-Hole, Adjustable, 10 sheet capacity, Black.

NSN: 7520-00-NSH-0191—Hole Punch, Paper, Light Duty, 3-Hole, Adjustable, 8 sheet capacity, Black.

NSN: 7520-00-NSH-0193—Hole Punch, Paper, High-capacity, 2-Hole, Adjustable, 30 sheet capacity, Black Base, Black Grip.

NSN: 7520-00-NSH-0194—Hole Punch, Paper, High-capacity, 3-Hole, Adjustable, 32 sheet capacity, Black Base, Metallic Handle.

NSN: 7520-00-NSH-0196—Hole Punch, Paper, Light Duty, 3-Hole, Adjustable, 11 sheet capacity, Black Base, Metallic Handle.

NSN: 7520-00-NSH-0197—Hole Punch, Paper, Desktop, 3-Hole, Adjustable, 11 sheet capacity, Metallic Base, Black Grip.

NSN: 7520-00-NSH-0199—Hole Punch, Paper, High-capacity, 2-Hole, Adjustable, 30 sheet capacity, Black Base, Metallic Handle.

Coverage: A-List for the Total Government Requirement as aggregated by the General Services Administration, New York, NY.

NPA: FVO Solutions Inc., Pasadena, CA.

Contracting Activity: Federal Acquisition Service, GSA/FSS OFC SUP CTR—Paper Product, New York, NY.

NSN: 6230-00-NIB-0033—Kit, Safety Flare, Programmable Flicker Pattern, Red LED, 8in Diameter, AA Battery Operated.

NSN: 6230-00-NIB-0034—Kit, Safety Flare, Programmable Flicker Pattern, Red LED, 8in Diameter, Rechargeable Power Unit.

Coverage: B-List for the Broad Government Requirement as aggregated by the Defense Logistics Agency, Philadelphia, PA.

NPA: Tarrant County Association for the Blind, Fort Worth, TX.

Contracting Activity: Defense Logistics Agency, DLA Troop Support, Philadelphia, PA.

NSN: 7920-00-NIB-0548—Scrubber, Grout, Non-Scratch, Light Blue.

NSN: 7920-00-NIB-0549—Scrubber, Kitchen/Bath, Non-scratch, Dark Blue.

NSN: 7920-00-NIB-0550—Scrubber, Tub/Shower, Non-scratch, Light Blue.

Coverage: B-List for the Broad Government requirement as aggregated by the General Services Administration, Fort Worth, TX.

NPA: Industries for the Blind, Inc., West Allis, WI.

Contracting Activity: Federal Acquisition Service, GSA/FAS Southwest Supply Center(QSDAC), Fort Worth, TX.

NSN: 6135-00-826-4798—AAA Alkaline non-rechargeable battery. UOI is PG. PG = 12.

NSN: 6135-00-900-2139—9V Alkaline non-rechargeable battery. UOI is PG. PG = 12.

NSN: 6135-00-826-4798—AAA Alkaline non-rechargeable battery. UOI is PG. PG = 12.

NSN: 6135-00-900-2139—9V Alkaline non-rechargeable battery. UOI is PG. PG = 12.

NSN: 6135-00-835-7210—D Alkaline non-rechargeable battery. UOI is PG. PG = 12.

Coverage: A-List for the Total Government Requirement as aggregated by the Defense Logistics Agency, Columbus, OH.

NPA: Eastern Carolina Vocational Center, Inc., Greenville, NC.

Contracting Activity: Defense Logistics Agency, DLA Land and Maritime, Columbus, OH.

Patricia Briscoe,
Deputy Director, Business Operations Pricing and Information Management.

[FR Doc. 2013-09215 Filed 4-18-13; 8:45 am]

BILLING CODE 6353-01-P